DEPARTMENT OF LABOR

Employment and Training Administration

[TA-W-59,052]

Array-Hartland, Hartland, WI; Notice of Termination of Certification

On April 19, 2006, the Department issued a Notice of Intent to Terminate the Certification of Eligibility For Workers of Array-Hartland, Hartland, Wisconsin, to Apply for Worker Adjustment Assistance and Alternative Trade Adjustment Assistance issued in accordance with Section 223 of the Trade Act of 1974 (19 U.S.C. 2273), and Section 246 of the Trade Act of 1974, as amended (26 U.S.C. 2813). The notice of the intent to terminate the certification was published in the Federal Register on May 5, 2006 (71 FR 26563-26564).

The Department's notice requested that any persons showing a substantial interest in the termination of the certification to submit comments by May 15, 2006.

No comments were received. Accordingly, this certification is hereby terminated.

Signed in Washington, DC, this 18th day of May, 2006.
Linda G. Poole,
Certifying Officer, Division of Trade Adjustment Assistance.

[FR Doc. E6-8770 Filed 6-6-06; 8:45 am]

BILLING CODE 4510-30-P